DEPARTMENT OF THE INTERIOR

[FWS-R4-ES-2022-N227; FVHC98220410150-XXX-FF04H00000]

Deepwater Horizon Oil Spill Natural Resource Damage Assessment, Florida Trustee Implementation Group Draft Phase V.4 Florida Coastal Access Project: Restoration Plan and Supplemental Environmental Assessment

AGENCY: Department of the Interior.

ACTION: Notice of availability; request for public comments; announcement of webinar and in-person meeting.

SUMMARY: In accordance with the Oil Pollution Act of 1990 (OPA), the National Environmental Policy Act of 1969 (NEPA), the Final Programmatic Damage Assessment Restoration Plan and Final Programmatic Environmental Impact Statement (Final PDARP/PEIS), and Consent Decree, the Federal and State natural resource trustee agencies for the Florida Trustee Implementation Group (FL TIG) have prepared the Draft Phase V.4 Florida Coastal Access Project: Restoration Plan and Supplemental Environmental Assessment (Phase V.4 RP/SEA). The FL TIG is proposing a fourth phase of the Florida Coastal Access Project. The preferred alternative includes the acquisition of the Dickerson Bay parcel: A 114-acre undeveloped coastal inholding in Wakulla County, Florida, within the approved boundary of St. Marks National Wildlife Refuge (NWR). This would continue the process of restoring lost recreational use in the Florida Restoration Area resulting from the Deepwater Horizon (DWH) oil spill. We invite comments on the Draft Phase V.4 RP/SEA.

DATES:

Submitting Comments: We will consider public comments on the Draft Phase V.4 RP/SEA received on or before May 18, 2022.

Public Meeting: The FL TIG will host a webinar on May 10, 2022, at 3 p.m. Eastern Time (ET), and an in-person public meeting on May 12 at 5:30 p.m. ET. The public meeting and webinar will include a presentation on the Draft Phase V.4 RP/SEA. Additional information about the meeting and webinar, including public meeting location and webinar registration information, can be found at https://www.gulfspillrestoration.noaa.gov/restoration-areas/florida. After registering, participants will receive a confirmation email with instructions for joining the webinar. Instructions for commenting will be provided during the webinar. Shortly after the webinar is concluded, the presentation material will be posted on the website above.

ADDRESSES:

Obtaining Documents: You may download the Draft Phase V.4 RP/SEA from any of the following websites:

• http://www.doi.gov/deepwaterhorizon

• http://www.gulfspillrestoration.noaa.gov/restoration-areas/florida

• http://dep.state.fl.us/deepwaterhorizon/default.htm

Hard copies are available for review at the Wakulla County Library, Gulf Specimen Marine Lab, and the St. Marks NWR visitor center. You may request a CD (compact disc) of the Draft Phase V.4 RP/SEA (see FOR FURTHER INFORMATION CONTACT).

Submitting Comments: You may submit comments on the Draft Phase V.4 RP/SEA by one of the following methods:

• Via the Web: http://www.gulfspillrestoration.noaa.gov/restoration-areas/florida.

• Via U.S. Mail: U.S. Fish and Wildlife Service, P.O. Box 29649, Atlanta, GA 30345. In order to be considered, mailed comments must be postmarked on or before the comment deadline given in DATES.

• In Person: Verbal comments may be provided at the public meeting and webinar.

FOR FURTHER INFORMATION CONTACT: Nanciann Regalado, via email at nanciann_regalado@fws.gov or via telephone at 678-296-6805. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

The Florida Coastal Access Project was selected for funding and implementation in Phase V of DWH early restoration. In the 2011 Framework Agreement for Early Restoration Addressing Injuries Resulting from the Deepwater Horizon Oil Spill (Framework Agreement), BP Exploration and Production, Inc. (BP) agreed to provide to the Trustees up to $1 billion toward early restoration projects in the Gulf of Mexico to address injuries to natural resources caused by the DWH oil spill. The Framework Agreement represented a preliminary step toward the restoration of injured natural resources and was intended to expedite the start of restoration in the Gulf in advance of the completion of the injury assessment process. In the five phases of the early restoration process, the Trustees selected, and BP agreed to fund, a total of 65 early restoration projects expected to cost a total of approximately $877 million, including the Florida Coastal Access Project for approximately $45.4 million. The Trustees selected these projects after public notice, public meetings, and consideration of public comments.

The Consent Decree terminated and replaced the Framework Agreement and provided that the Trustees shall use remaining early restoration funds as specified in the early restoration plans and in accordance with the Consent Decree. The Trustees have determined that decisions concerning any unexpended early restoration funds are to be made by the appropriate TIG, in this case the FL TIG.

Background

On April 20, 2010, the mobile offshore drilling unit Deepwater Horizon, which was being used to drill a well for BP Exploration and Production, Inc. (BP), in the Macondo prospect (Mississippi Canyon 252—MC252), experienced a significant explosion, fire, and subsequent sinking in the Gulf of Mexico, resulting in an unprecedented volume of oil and other discharges from the rig and from the wellhead on the seabed. The Deepwater Horizon oil spill is the largest oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the Deepwater Horizon oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the completion of restoration to baseline (the resource quality and conditions that would exist if the spill had not occurred).

The Deepwater Horizon Trustees are:

• U.S. Department of the Interior (DOI), as represented by the National Park Service, U.S. Fish and Wildlife Service (USFWS), and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the U.S. District Court for the Eastern District of Louisiana. Pursuant to that Consent Decree, restoration projects in the Florida Restoration Area are now chosen and managed by the FL TIG. The FL TIG is composed of the following six Trustees: State of Florida Department of Environmental Protection and Fish and Wildlife Conservation Commission; DOI; NOAA; EPA; and USDA.

Overview of the FL TIG Draft Phase V.4 RP/SEA

The Draft Phase V.4 RP/SEA is being released in accordance with OPA NRDA regulations found in the Code of Federal Regulations (CFR) at 15 CFR part 990, NEPA and its implementing regulations found at 40 CFR parts 1500-1508, and the Final PDARP/PEIS and Consent Decree. The Phase V.4 RP/SEA provides an OPA analysis for the proposed fourth phase of the Florida Coastal Access Project and supplements the NEPA analysis completed in the first, second, and third phases of the project (2016 Final Phase V Early Restoration Plan and Environmental Assessment, 2017 Final Phase V.2 Restoration Plan and Supplemental Environmental Assessment, and 2019 Final Phase V.3 Restoration Plan and Supplemental Environmental Assessment, respectively). In the Draft Phase V.4 RP/SEA, the FL TIG proposes the acquisition of the Dickerson Bay parcel, a 114-acre undeveloped coastal inholding in Wakulla County, Florida, within the approved boundary of St. Marks National Wildlife Refuge. Acquisition of the Dickerson Bay parcel would continue the process of restoring natural resources and services injured or lost as a result of the DWH oil spill. The cost to carry out the proposed action would be approximately $685,000.

Next Steps

As described above, the Trustees will hold a public meeting and webinar to facilitate the public review and comment process. After the public comment period ends, the Trustees will consider and address the comments received before issuing a Final Phase V.4 RP/SEA.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for the Phase V.4 RP/SEA can be viewed electronically at https://www.doi.gov/deepwaterhorizon/adminrecord.

Authority

The authority of this action is the Oil Pollution Act of 1990 (33 U.S.C. 2701 et seq.), its implementing Natural Resource Damage Assessment regulations found at 15 CFR part 990, and the National Environmental Policy Act of 1969 (42 U.S.C. 4321 et seq.) and its implementing regulations found at 40 CFR parts 1500-1508.

Mary Josie Blanchard,
Director of Gulf of Mexico Restoration, Department of the Interior.

[FR Doc. 2022-07729 Filed 4-15-22; 8:45 am]

BILLING CODE 4310-10-P